ENVIRONMENTAL PROTECTION AGENCY

[EPA-HQ-OPP-2021-0080; FRL-8795-03-OCSPP]

Pesticide Product Registration; Receipt of Applications for New Uses

October 2021.

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before November 26, 2021.

ADDRESSES: Submit your comments, identified by docket identification (ID) number and the File Symbol of interest as shown in the body of this document, online at http://www.regulations.gov. Follow the online instructions for submitting comments. Do not submit electronically any information you consider to be Confidential Business Information (CBI) or other information whose disclosure is restricted by statute. Additional instructions on commenting or visiting the docket, along with more information about dockets generally, is available at https://www.epa.gov/dockets/about-epa-dockets.

Due to the public health concerns related to COVID-19, the EPA/DC and Reading Room is closed to visitors with limited exceptions. The staff continues to provide remote customer service via email, phone, and webform. For the latest status information on the EPA/DC and docket access, visit https://www.epa.gov/dockets.

FOR FURTHER INFORMATION CONTACT: Charles Smith, Biopesticides and Pollution Prevention Division (7511P), main telephone number: (703) 305-7090, email address: BPPDFRNotices@epa.gov; or Marietta Echeverria, Registration Division (RD) (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

Notice of Receipt—New Uses

1. EPA Registration Number: 100-1001; 100-1070. Docket ID number: EPA-HQ-OPP-2021-0310. Applicant: Syngenta Crop Protection, LLC, P.O. Box 18300, Greensboro, NC 27419. Active ingredient: Fluazifop-P-butyl. Product type: Herbicide Manufacturing Use Product; Herbicide End Use Product. Proposed use: Berry, low growing, subgroup 13-07G; brassica, leafy greens, subgroup 4-16B; chive, dried leave; fruit, citrus, group 10-10; fruit, stone, group 12-12; leaf petiole vegetable subgroup 22B; onion, green, subgroup 3-07B; papaya; and vegetable, brassica, head and stem, group 5-16. Contact: RD.

2. EPA Registration Numbers: 264-1194 & 264-1192. Docket ID number: EPA-HQ-OPP-2021-0624. Applicant: Bayer CropScience LP, 800 N Lindbergh Blvd., St. Louis, MO 63167. Active ingredient: Tetraniliprole [1-(3-chloro-2-pyridinyl)-N-[4-cyano-2-methyl-6-[(methylamino)carbonyl]phenyl]-3-[[5-(trifluoromethyl)-2H-tetrazol-2-yl]methyl]-1H-pyrazole-5-carboxamide]. Product type: Insecticide. Proposed Use: New food use in or on soybean seed. Contact: RD.

3. EPA Registration Numbers: 264-1194 & 264-RERO. Docket ID number: EPA-HQ-OPP-2021-0624. Applicant: Bayer CropScience LP, 800 N Lindbergh Blvd., St. Louis, MO 63167. Active ingredient: Tetraniliprole [1-(3-chloro-2-pyridinyl)-N-[4-cyano-2-methyl-6-[(methylamino)carbonyl]phenyl]-3-[[5-(trifluoromethyl)-2H-tetrazol-2-yl]methyl]-1H-pyrazole-5-carboxamide]. Product type: Insecticide. Proposed Use: New food use in or on cereal grain seed (Crop Group 15; Cereal Grains, Except Rice and Crop Group 16; Forage, Fodder, and Straw of Cereal Grains Group, except Field Corn, Popcorn, and Sweet Corn). Contact: RD.

4. File Symbol: 45728-GL and 45728-GU. Docket ID number: EPA-HQ-OPP-2021-0290. Applicant: Taminco US LLC, a subsidiary of Eastman Chemical Company, 200 S Wilcox Drive Kingsport, TN 37660-5147. Active ingredient: Chlormequat chloride. Product type: Fungicide. Proposed use: Establish domestic tolerances in or on, barley, oat, triticale, and wheat grains. They are also establishing secondary residues in eggs, meat, milk, and poultry. Contact: RD.

5. File Symbol: 54555-2. Docket ID number: EPA-HQ-OPP-2021-0300. Applicant: Alzchem Trostberg GmbH c/o Biologic Regulatory Consulting, Inc., 10529 Heritage Bay Blvd., Naples, FL 32120. Active ingredient: Hydrogen Cyanamide. Product type: Fungicide. Proposed Use: Walnut. Contact: RD.

6. EPA Registration Number: 91197-3. Docket ID number: EPA-HQ-OPP-2021-0627. Applicant: AFS009 Plant Protection, Inc., 104 T.W. Alexander Dr., Research Triangle Park, NC 27709. Active ingredient: Pseudomonas chlororaphis strain AFS009. Product type: Bactericide and fungicide. Proposed use: Aerial application to numerous crops (e.g., legume vegetables, pome fruit, stone fruit, and ornamentals) in agricultural settings. Contact: BPPD.

Authority: 7 U.S.C. 136 et seq.

Dated: October 21, 2021.
Delores Barber,
Director, Information Technology and Resources Management Division, Office of Program Support.

[FR Doc. 2021-23390 Filed 10-26-21; 8:45 am]

BILLING CODE 6560-50-P